DEPARTMENT OF COMMERCE

National Oceanic and Atmospheric Administration

[I.D. 012402F]

Pacific Fishery Management Council; Public Meeting

AGENCY: National Marine Fisheries Service (NMFS), National Oceanic and Atmospheric Administration (NOAA), Commerce.

ACTION: Notice of public meeting.

SUMMARY: The Pacific Fishery Management Council's (Council) Trawl Permit Stacking Work Group (Work Group) will hold a meeting which is open to the public.

DATES: The meeting will convene at 8:30 a.m. on Tuesday, February 26, 2002, and adjourn when business for the day is completed.

ADDRESSES: The meeting will be held at the Embassy Suites Hotel, 7900 NE 82nd Avenue, Portland, OR 97220.

Council address: Pacific Fishery Management Council, 7700 NE Ambassador Place, Suite 200, Portland, OR 97220-1384; 503-326-6352.

FOR FURTHER INFORMATION CONTACT: Mr. Jim Seger, Fishery Economics Staff Officer; 503-326-6352.

SUPPLEMENTARY INFORMATION: The purpose of the meeting is to begin development of trawl capacity reduction options to be incorporated into a regulatory amendment or plan amendment to the groundfish fishery management plan. The Work Group will develop a number of options for Council consideration. One of the primary options to be developed will be the stacking of multiple permits on a single vessel. The Council has directed the Work Group to include individual quotas among the options it considers.

Although nonemergency issues not contained in the meeting agenda may come before the Work Group for discussion, those issues may not be the subject of formal Work Group action during this meeting. Action will be restricted to those issues specifically listed in this notice and any issues arising after publication of this notice requiring emergency action under section 305(c) of the Magnuson-Stevens Fishery Conservation and Management Act, provided the public has been notified of the Work Group’s intent to take final action to address the emergency.

Special Accommodations

This meeting is physically accessible to people with disabilities. Requests for sign language interpretation or other auxiliary aids should be directed to Ms. Carolyn Porter at 503-326-6352 at least 5 days prior to the meeting date.

Dated: February 1, 2002.
Richard W. Surdi,
Acting Director, Office of Sustainable Fisheries, National Marine Fisheries Service.

[FR Doc. 02-3002 Filed 2-6-02; 8:45 am]

BILLING CODE 3510-22-S